DEPARTMENT OF COMMERCE

National Oceanic and Atmospheric Administration

[RTID 0648-XE556]

Notice of Availability of Draft Environmental Assessment on the Effects of NOAA's National Marine Fisheries Service, Office of Protected Resources Coordination and Continued Operation of the Sea Turtle Stranding and Salvage Network

AGENCY: National Marine Fisheries Service (NMFS), National Oceanic and Atmospheric Administration (NOAA), Commerce.

ACTION: Notice; availability of a draft environmental assessment; request for comments.

SUMMARY: NMFS announces the availability of the draft Environmental Assessment (EA) on NMFS Office of Protected Resources' (OPR) role coordinating the Sea Turtle Stranding and Salvage Network (STSSN). The STSSN responds to and documents sick, injured, and dead sea turtles that are found in coastal areas under U.S. jurisdiction along the Atlantic Ocean and Gulf of Mexico, and U.S. Caribbean Territories. Although the STSSN has been in operation for several decades, the National Coordination role formally shifted to the OPR in 2022, which prompted an evaluation of STSSN operations and development of a formal Operating Procedures Handbook, which are subject to National Environmental Policy Act (NEPA) review. NMFS is requesting comments on the draft EA.

DATES: Written comments must be received (see ADDRESSES) on or before January 29, 2025.

ADDRESSES: The EA is available for download and review at https://www.fisheries.noaa.gov/national/marine-life-distress/sea-turtle-stranding-and-salvage-network under the section heading Sea Turtle Stranding and Salvage Network Operations. The draft EA is also available upon written request (see FOR FURTHER INFORMATION CONTACT).

You may submit comments on this document, identified by NOAA-NMFS-2024-0148, by the following method:

• Electronic Submission: Submit all electronic public comments via the Federal e-Rulemaking Portal. Go to https://www.regulations.gov and enter NOAA-NMFS-2024-0148 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Sara Wissmann, NMFS, Office of Protected Resources at sara.wissmann@noaa.gov, 301-427-8402; Wendy Piniak, NMFS, Office of Protected Resources at wendy.piniak@noaa.gov, 301-427-8402.

SUPPLEMENTARY INFORMATION: Publication of this notice begins the official public comment period for this draft EA. Per the NEPA, the purpose of the draft EA is to evaluate the potential direct, indirect, and cumulative impacts caused by continued operation of the STSSN under the coordination of the NMFS, OPR using the 2024 STSSN Operating Procedures Handbook.

Section 9 of the Endangered Species Act (ESA) and Federal regulations prohibit the `taking' of a species listed as endangered or threatened. The ESA defines “take” to mean harass, harm, pursue, hunt, shoot, wound, kill, trap, capture, or collect, or to attempt to engage in any such conduct. Section 4(f) of the ESA (16 U.S.C. 1531-1544) provides for the creation of Recovery Plans for endangered and threatened species and provides NMFS and US Fish and Wildlife Service (USFWS) with authority “to procure the services of appropriate public and private agencies and institutions and other qualified persons” in order to implement those plans. To advance the conservation and recovery of listed sea turtles, each recovery plan developed jointly by the NMFS and USFWS identifies and highlights the need to maintain an active stranding network.

Species Covered in This Notice

The following species are included in the EA: North Atlantic and South Atlantic Distinct Population Segments of green (Chelonia mydas), Kemp's ridley (Lepidochelys kempii), hawksbill (Eretmochelys imbricata), leatherback (Dermochelys coriacea), and Northwest Atlantic Ocean DPS of loggerhead (Caretta caretta) sea turtles.

Background

The draft EA analyzes the continued operation of the STSSN under the coordination of NMFS OPR. NMFS has conducted an environmental review of OPR's coordination role related to the STSSN and the formalization of their program protocols and roles described in the Draft 2024 STSSN Operating Procedures Handbook.

The STSSN is a cooperative effort to reduce causes of morbidity and mortality in sea turtles by responding to and documenting sea turtles, found either dead or alive (but compromised), in a manner sufficient to inform conservation management and recovery. The proposed activities considered in the draft EA are limited to the coordination role that OPR holds, activities NMFS staff will conduct in the field related to stranding coordination, response, and mortality investigation, and direct takes of sea turtles while responding to stranding incidents that have occurred because of human activity or natural causes of illness, injury, or mortality.

National Environmental Policy Act

This notice is provided pursuant to section 10(c) of the ESA and the NEPA (42 U.S.C. 4321, et seq.). This draft EA was prepared in accordance with NEPA (42 U.S.C. 4321, et seq.) and NOAA policy and procedures (NOAA Administrative Order [NAO] 216-6A and the Companion Manual [CM] for the NAO 216-6A).

Alternatives Considered

NMFS' proposed action is the continued coordination of the STSSN by NMFS OPR and the review of program protocols and best practices, which have been consolidated and updated in the Draft 2024 STSSN Operating Procedures Handbook. In preparing the draft EA, NMFS considered the following two alternatives for the proposed action.

Alternative 1: No Action. In accordance with the NOAA CM for NAO 216-6A, section 6.B.i, Under the No Action Alternative, NMFS OPR would absolve its role coordinating the STSSN. Under this alternative, the STSSN would continue to operate as prescribed in the species Recovery Plans, but only under existing state programs that are permitted through the USFWS permit authority, or through direct permits to stranding response organizations and rehabilitation facilities. Stranding response activities would be maintained, but without NMFS OPR involvement. The Council on Environmental Quality Regulations and the CM for NAO 216-6A require consideration and analysis of a no action alternative for the purposes of presenting a comparative analysis to the action alternatives. The no action alternative, serves as a baseline against which the impacts of the action alternatives will be compared and contrasted.

Alternative 2: Continued Operation of the STSSN under NMFS Coordination, Guided by the Draft 2024 STSSN Operating Procedures Handbook. Under Alternative 2, NMFS OPR would continue to coordinate the STSSN and would finalize the Draft 2024 STSSN Operating Procedures Handbook as a guide for the continued operation of the STSSN. The STSSN has been in operation for decades, and the Operating Procedures seeks to consolidate various guidance documents and clearly outline the roles and responsibilities of STSSN participants.

Final determinations will not be completed until after the end of the 30-day comment period and NMFS will fully consider all public comments received during the comment period. If finalized and adopted, NMFS will publish the Final STSSN Operating Procedures Handbook to its website.

Dated: December 20, 2024.
Caroline Good,
Acting Chief, Marine Mammal and Sea Turtle Conservation Division, Office of Protected Resources, National Marine Fisheries Service.

[FR Doc. 2024-31126 Filed 12-27-24; 8:45 am]

BILLING CODE 3510-22-P